DEPARTMENT OF COMMERCE

International Trade Administration

[A-201-817]

Oil Country Tubular Goods From Mexico: Rescission of Antidumping Duty Administrative Review

AGENCY: Import Administration, International Trade Administration, Department of Commerce.

ACTION: Notice of rescission of Antidumping Duty Administrative Review.

SUMMARY: On October 1, 2001, the Department of Commerce (the Department) published in the Federal Register a notice announcing the initiation of an administrative review of the antidumping duty order on oil country tubular goods (OCTG) from Mexico. See Initiation of Antidumping and Countervailing Duty Administrative Reviews and Requests for Revocation in Part, 66 FR 49924 (October 1, 2001). The period of review (POR) is August 1, 2000 to July 31, 2001. This review has now been rescinded because one party requesting the review withdrew its request, and the remaining exporter named in the request for review had no entries for consumption of subject merchandise that are subject to review in the United States during the POR.

EFFECTIVE DATE: September 3, 2002.

FOR FURTHER INFORMATION CONTACT: Phyllis Hall or Abdelali Elouaradia, Enforcement Group III, Office 8, Import Administration, International Trade Administration, U.S. Department of Commerce, 14th Street and Constitution Avenue, NW., Room 7866, Washington, DC 20230; telephone (202) 482-1398 or (202) 482-1374 respectively.

The Applicable Statute

Unless otherwise indicated, all citations to the Tariff Act of 1930, as amended (the Act) are references to the provisions effective January 1, 1995, the effective date of the amendments made to the Act by the Uruguay Round Agreements Act (URAA). In addition, unless otherwise indicated, all citations to the Department's regulations are references to the provisions codified at 19 CFR part 351 (2001).

Scope of Review

Imports covered by this review are oil country tubular goods, hollow steel products of circular cross-section, including oil well casing, tubing, and drill pipe, of iron (other than cast iron) or steel (both carbon and alloy), whether seamless or welded, whether or not conforming to American Petroleum Institute (API) or non-API specifications, whether finished or unfinished (including green tubes and limited service OCTG products). This scope does not cover casing, tubing, or drill pipe containing 10.5 percent or more of chromium. The OCTG subject to this order are currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50.

Although the HTSUS subheadings are provided for convenience and customs purposes, our written description of the scope of this proceeding is dispositive.

The Department has determined that couplings, coupling stock and drill pipe are not within the scope of the antidumping order on OCTG from Mexico. See Letter to Interested Parties; Final Affirmative Scope Decision, August 27, 1998. See Continuation of Countervailing and Antidumping Duty Orders on Oil Country Tubular Goods From Argentina, Italy, Japan, Korea and Mexico, and Partial Revocation of Those Orders From Argentina and Mexico With Respect to Drill Pipe, 66 FR 38630, July 25, 2001.

Background

On August 31, 2001, North Star Steel Ohio (petitioner), a division of North Star Steel Company, requested an administrative review of Tubos de Acero de Mexico S.A. (TAMSA), a Mexican producer and exporter of OCTG, with respect to the antidumping order published in the Federal Register. See Antidumping Duty Order: Oil Country Tubular Goods From Mexico, 60 FR 41055 (August 11, 1995). Additionally, respondent Hylsa, S.A. de C.V. (Hylsa) requested that the Department conduct an administrative review of Hylsa. We initiated the review for both companies. See Initiation of Antidumping and Countervailing Duty Administrative Reviews and Requests for Revocation in Part, 66 FR 49924 (October 1, 2001). On October 2, 2001, Hylsa withdrew its request and requested that the Department terminate the review with respect to Hylsa. On December 20, 2001, the Department issued an antidumping duty questionnaire to TAMSA for the POR. On January 8, 2002, TAMSA resubmitted its no consumption entry/sales certifications. On January 24, 2002, February 22, 2002, March 18, 2002 and March 21, 2002, TAMSA submitted information in response to requests for information from the Department. On January 18, 2002 and February 8, 2002, we received comments from petitioner. These comments are discussed below. On August 14, 2002 and August 15, 2002, the Department informed petitioners of its intent to rescind the review. See memos to file dated August 15, 2002 and August 16, 2002. The Department did not receive any comments from petitioners.

SUPPLEMENTARY INFORMATION: On October 5, 2001 TAMSA claimed that “it did not directly or indirectly, enter for consumption, or sell, export or ship for entry for consumption in the United States subject merchandise during the period of review.” On December 20, 2002, the Department issued an antidumping duty questionnaire to TAMSA and requested that TAMSA resubmit its no consumption/entry/sales certification. On January 8, 2002, TAMSA submitted its no consumption/entry/sales certifications. Petitioner subsequently claimed on January 18, 2002, that publicly available import data from the Department's IM-145 database showed that 3,355 metric tons of seamless OCTG from Mexico entered the United States during the period of review. Petitioner asserted that TAMSA was the only producer of seamless OCTG in Mexico. Petitioner requested that the Department investigate these transactions to determine whether this merchandise is subject to review. After TAMSA submitted information on certain transactions, on February 8, 2002, petitioners pointed out that the transactions did not account for the total amount of seamless OCTG shown in the IM-145 database.

The Department has thoroughly investigated U.S. Customs Service (Customs) proprietary information for all HTSUS numbers covered by the scope of this review. As part of this investigation, the Department requested additional information from TAMSA for two entries. See Memo to the File dated February 12, 2002 and February 26, 2002. TAMSA submitted the requested information. One of the entries was misclassified and the other entry was for testing purposes. On May 2, 2002, Customs confirmed that for one of the entries, TAMSA was the manufacturer. This was the entry for testing purposes that the Department had previously investigated. On April 3, 2002, the Department sent a no shipment inquiry to Customs. On April 19, 2002, in response to the no shipment inquiry, Customs sent a list of entries that had not been liquidated. The Department reviewed the data which did not show any additional shipments from TAMSA other than entries that had already been investigated. The Department has not been able to identify any other entries for consumption from TAMSA during the POR. See Memo to the File dated July 24, 2002. Since there were no entries for consumption during the POR of OCTG from TAMSA, and because Hylsa timely withdrew its request for review, we are rescinding this review in accordance with the Department's practice. The cash deposit rates for these firms will continue to be the rates established in the most recently completed segment of this proceeding.

This notice is issued and published in accordance with section 777(i) of the Act and 19 CFR 351.213(d)(4).

Dated: August 27, 2002.
Joseph A. Spetrini,
Acting Assistant Secretary for Import Administration.

[FR Doc. 02-22358 Filed 8-30-02; 8:45 am]

BILLING CODE 3510-DS-P